DEPARTMENT OF THE INTERIOR

Bureau of Land Management

[OR-030-1020-XX-028H; HAG 05-0014]

AGENCY: Bureau of Land Management (BLM), Vale District.

ACTION: Meeting notice for the John Day/Snake Resource Advisory Council.

SUMMARY: The John Day/Snake Resource Advisory Council will meet on Thursday, December 2, 2004, 8 a.m. to 4 p.m. at the Oxford Suites, 2400 SW Court Place, Pendleton, OR 97801.

The meeting may include such topics as Forest Service Weeds Plan. There will also be subcommittee updates on OHV, Noxious Weeds, Planning, Sage Grouse, and other matters as may reasonably come before the board.

The entire meeting is open to the public. For a copy of the information to be distributed to the Council members, please submit a written request to the Vale District Office 10 days prior to the meeting. Public comment is scheduled for 11 a.m. to 11:15 a.m., Pacific time (P.t.) on December 2, 2004.

FOR FURTHER INFORMATION CONTACT: Additional information concerning the John Day/Snake Resource Advisory Council may be obtained from Peggy Diegan, Management Assistant/Webmaster, Vale District Office, 100 Oregon Street, Vale, OR 97918, (541) 473-3144, or e-mail Peggy_Diegan@or.blm.gov.

Dated: October 26, 2004.
David R. Henderson,
District Manager.

[FR Doc. 04-24386 Filed 11-1-04; 8:45 am]

BILLING CODE 4310-33-P